FEDERAL COMMUNICATIONS COMMISSION

[CG Docket No. 03-123; DA 08-1055]

National Exchange Carrier Association (NECA) Submits the Payment Formula and Fund Size Estimate for the Interstate Telecommunications Relay Services (TRS) Fund

AGENCY: Federal Communications Commission.

ACTION: Notice.

SUMMARY: In this document, the Consumer and Governmental Affairs Bureau (Bureau) seeks comment on NECA's proposed compensation rates for interstate traditional TRS; interstate Speech-to-Speech (STS); interstate captioned telephone service (CTS) and interstate and intrastate Internet Protocol (IP) captioned telephone service (IP CTS); interstate and intrastate IP Relay; and interstate and intrastate Video Relay Service (VRS). The Bureau also seeks comment on the proposed carrier contribution factor and interstate TRS Fund size requirement.

DATES: Comments are due on or before May 16, 2008, and reply comments are due on or before May 23, 2008.

ADDRESSES: Interested parties may submit comments identified by CG Docket No. 03-123, by any of the following methods:

• Electronic Filers: Comments may be filed electronically using the Internet by accessing the Commission's Electronic Comment Filing System (ECFS), through the Commission's Web site: http://www.fcc.gov/cgb/ecfs/, or the Federal eRulemaking Portal: http://www.regulations.gov. Filers should follow the instructions provided on the Web site for submitting comments. For ECFS filers, in completing the transmittal screen, filers should include their full name, U.S. Postal Service mailing address, and CG Docket No. 03-123. Parties may also submit an electronic comment by Internet e-mail. To get filing instructions, filers should send an e-mail to ecfs@fcc.gov, and include the following words in the body of the message, “get form <your e-mail address>.” A sample form and directions will be sent in response.

• Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial mail sent by overnight mail (other than U.S. Postal Service Express Mail and Priority Mail) must be sent to 9300 East Hampton Drive, Capitol Heights, MD 20743.

• U.S. Postal Service first-class, Express, and Priority mail should be addressed to 445 12th Street, SW., Washington, DC 20554.

Parties who choose to file by paper should also submit their filings on compact disc. The compact disc should be submitted, along with three paper copies to: Dana Wilson, Consumer & Governmental Affairs Bureau, Disability Rights Office, 445 12th Street, SW., Room 3-C418, Washington, DC 20554. Such a submission should be on a compact disc formatted in an IBM compatible format using Word 2003 or a compatible software. The compact disc should be accompanied by a cover letter and should be submitted in “read only” mode. The compact disc should be clearly labeled with the commenter's name, proceeding (CG Docket No. 03-123), type of pleading (comment or reply comment), date of submission, and the name of the electronic file on the compact disc. The label should also include the following phrase “CD-Rom Copy—Not an Original.” Each compact disc should contain only one party's pleadings, preferably in a single electronic file. In addition, commenters filing by paper must send a compact disc copy to the Commission's duplicating contractor at Portals II, 445 12th Street, SW., Room CY-B402, Washington, DC 20554.

FOR FURTHER INFORMATION CONTACT: Diane Mason, (202) 418-7126 (voice), (202) 418-7828 (TTY), or e-mail: Diane.Mason@fcc.gov.

SUPPLEMENTARY INFORMATION: This is a summary of the Commission's Public Notice DA 08-1055. Pursuant to 47 CFR 1.415 and 1.419, interested parties may file comments and reply comments on or before the dates indicated in the Dates section. The full text of DA 08-1055 and subsequently filed documents in this matter are available for public inspection and copying during regular business hours at the FCC Reference Information Center, Portals II, 445 12th Street, SW., Room CY-A257, Washington, DC 20554. They may also be purchased from the Commission's duplicating contractor at Portals II, 445 12th Street, SW., Room CY-B402, Washington, DC 20554; the contractor's Web site, http://www.bcpiweb.com; or by calling (800) 378-3160. DA 08-292 and subsequently filed documents in this matter may also be found by searching ECFS at http://www.fcc.gov/cgb/ecfs (insert CG Docket No. 03-123 into the Proceeding block).

To request materials in accessible formats for people with disabilities (Braille, large print, electronic files, audio format), send an e-mail to fcc504@fcc.gov or call the Consumer & Governmental Affairs Bureau at (202) 418-0530 (voice), (202) 418-0432 (TTY). DA 08-292 can also be downloaded in Word or Portable Document Format (PDF) at: http://www.fcc.gov/cgb/dro/trs.html.

Synopsis

On May 1, 2008, pursuant to 47 CFR 64.604(c)(5)(iii)(H) of the Commission rules, NECA, the Interstate TRS Fund Administrator, submitted its annual payment formula and fund size estimate for the Interstate TRS Fund for the period July 1, 2008, through June 30, 2009.

NECA proposes per minute compensation rates based on the new rate calculation methodologies established in the 2007 TRS Rate Methodology Order. These calculations result in the following proposed rates: $1.5938 for interstate traditional TRS; $2.7248 for interstate STS; $1.6569 for interstate CTS and interstate and intrastate IP CTS; $1.2865 for interstate and intrastate IP Relay; and tiered rates of $6.7362 for the first 50,000 monthly minutes, $6.4675 for monthly minutes between 50,001 and 500,000, and $6.2685 for minutes above 500,000 for interstate and intrastate VRS. Based on these rates, NECA proposes a carrier contribution factor of 0.01012, and a Fund size requirement of $805.5 million.

The Bureau seeks comment on NECA's proposed compensation rates for traditional TRS, STS, CTS and IP CTS, IP Relay, and VRS for the period of July 1, 2008, through June 30, 2009, as well as the proposed carrier contribution factor and Fund size requirement.

Federal Communications Commission.
Nicole McGinnis,
Deputy Chief, Consumer & Governmental Affairs Bureau.

[FR Doc. E8-10517 Filed 5-9-08; 8:45 am]

BILLING CODE 6712-01-P